DEPARTMENT OF THE INTERIOR

National Park Service

[NPS-NER-ASIS-19041; PPNEASIS00-PMP00UP05.YP0000]

Draft General Management Plan/Environmental Impact Statement, Assateague Island National Seashore, Maryland and Virginia

AGENCY: National Park Service, Interior.

ACTION: Notice of Availability.

SUMMARY: The National Park Service (NPS) announces the availability of a Draft General Management Plan/Environmental Impact Statement (Draft GMP/EIS) for Assateague Island National Seashore, Maryland and Virginia.

DATES: The NPS will accept comments on the Draft GMP/EIS for a period of 90 days following publication of the Environmental Protection Agency's Notice of Availability in the Federal Register. The National Park Service will hold public information sessions during the public review period to provide general information and answer questions. Meeting dates, times and locations will be announced in local media in advance of the meeting dates.

ADDRESSES: The Draft GMP/EIS will be available for public review and comment online at http://parkplanning.nps.gov/asis, and in hardcopy at the office of the Superintendent, Assateague Island National Seashore, 7206 National Seashore Lane, Berlin, MD 21811, (410) 629-6090. Copies may also be viewed at area public libraries including Worcester County, Ocean City, Berlin, Pocomoke and Wicomico (Salisbury) in Maryland and Eastern Shore (Accomac) and Chincoteague Island in Virginia. Comments may be submitted electronically at http://parkplanning.nps.gov/asis. You may also mail written comments to: Superintendent, Assateague Island National Seashore, 7206 National Seashore Lane, Berlin, MD 21811, Attn: GMP Comments.

Before including your address, phone number, email address, or other personal identifying information in your comment, you should be aware that your entire comment—including your personal identifying information—might be made publicly available at any time. While you can ask us in your comment to withhold your personal identifying information from public review, we cannot guarantee that we will be able to do so.

SUPPLEMENTARY INFORMATION: Pursuant to the National Environmental Policy Act of 1969, the National Park Service is preparing a Draft General Management Plan/Environmental Impact Statement (Draft GMP/EIS) for Assateague Island National Seashore (Seashore) to replace the 1982 GMP which does not adequately address the issues facing the Seashore today. Once approved, the GMP will guide and direct management strategies for the future that support the protection of outstanding Mid-Atlantic coastal resources of Assateague Island and its adjacent waters and the natural processes upon which they depend and the provision of high quality, resource-compatible recreational experiences.

The Draft GMP/EIS evaluates the continuation of current management (no action alternative) and three action alternatives with particular emphasis on how the park may respond to climate change and sea level rise and analyzes the environmental consequences of implementing any of the alternatives.

FOR FURTHER INFORMATION CONTACT: Deborah Darden, Superintendent, Assateague Island National Seashore, 7206 National Seashore Lane, Berlin, MD 21811. Phone: (410) 629-6090.

Dated: August 27, 2015.
Michael A. Caldwell,
Regional Director, Northeast Region, National Park Service.

[FR Doc. 2016-02109 Filed 2-3-16; 8:45 am]

BILLING CODE 4310-WV-P